FEDERAL COMMUNICATIONS COMMISSION

[FR ID 99764]

Deletion of Item From April 5, 2022 Open Meeting

The following item was adopted by the Commission on August 3, 2022, and deleted from the list of items scheduled for consideration at the Friday, August 5, 2022, Open Meeting. This item was previously listed in the Commission's Sunshine Notice on Friday, July 29, 2022.

4 | INTERNATIONAL | Title: Amendment of Parts 2 and 25 of the Commission's Rules to Enable GSO Fixed-Satellite Service (Space-to-Earth) Operations in the 17.3-17.8 GHz Band, to Modernize Certain Rules Applicable to 17/24 GHz BSS Space Stations, and to Establish Off-Axis Uplink Power Limits for Extended Ka-Band FSS Operations (IB Docket No. 20-330); and to Enable NGSO Fixed-Satellite Service (Space-to-Earth) Operations in the 17.3-17.8 GHz Band (IB Docket No. 22-273)
|  | Summary: The Commission will consider a Report and Order and a Notice of Proposed Rulemaking that would adopt a coprimary allocation for geostationary satellite orbit (GSO) fixed-satellite service (FSS) operations in the space-to-Earth (downlink) direction in the 17.3-17.8 GHz band, while protecting incumbent services, and inquire into whether the Commission should expand this FSS allocation in the 17.3-17.8 GHz band to include non-geostationary orbit (NGSO) FSS operations also in the downlink direction.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Dated: August 3, 2022.
Marlene Dortch,
Secretary.

[FR Doc. 2022-17182 Filed 8-9-22; 8:45 am]

BILLING CODE 6712-01-P